DEPARTMENT OF LABOR

Employment and Training Administration

[TA-W-41,701]

FCI Electronics, Etters, PA; Notice of Termination of Investigation

Pursuant to Section 221 of the Trade Act of 1974, an investigation was initiated on June 24, 2002, in response to a petition filed on behalf of workers at FCI Electronics, Etters, Pennsylvania. The workers assembled fiber optic cables and circuit boards.

The petition has been deemed invalid. The petitioning group of workers were separated from the subject firm more than one year prior to the date of the petition. Consequently, further investigation in this case would serve no purpose, and the investigation has been terminated.

Signed in Washington, DC this 27th day of August 2002.
Elliott S. Kushner,
Certifying Officer, Division Of Trade Adjustment Assistance.

[FR Doc. 02-22969 Filed 9-9-02; 8:45 am]

BILLING CODE 4510-30-P